DEPARTMENT OF TRANSPORTATION

Surface Transportation Board

[STB Finance Docket No. 34661]

Columbia Basin Railroad Company, Inc.—Lease and Operation Exemption—Clark County, WA

Columbia Basin Railroad Company, Inc. (CBRW),¹ a Class III rail carrier, has filed a verified notice of exemption under 49 CFR 1150.41 to acquire by lease and to operate approximately 19 miles of rail line owned by Clark County, WA, between milepost 14.1 at Battle Ground, WA, and milepost 33.1 at or near Chelatchie, WA.²

¹ CBRW states that it will conduct these operations under the name “Portland Vancouver Junction Railroad.”

² As filed, CBRW seeks to lease and operate approximately 33.1 miles of rail line in Clark County, WA. However, in Columbia Basin Railroad Company, Inc.—Lease and Operation Exemption—Clark County, WA, STB Finance Docket No. 34472 (STB served Mar. 11, 2004), CBRW was authorized to acquire by lease and operate approximately 14.1 miles of the 33.1 miles of rail line, between milepost 0.0 at or near North Vancouver/Vancouver Junction, WA, and milepost 14.1 at Battle Ground, WA. Because CBRW has already been granted authority to lease and operate this segment of the involved line, authority will only be granted here for CBRW to lease and operate the 19-mile segment between milepost 14.1 and milepost 33.1.

CBRW certifies that its projected revenues as a result of this transaction will not result in the creation of a Class II or a Class I rail carrier. The transaction was scheduled to be consummated on or after February 10, 2005, the effective date of the exemption.

If the notice contains false or misleading information, the exemption is void ab initio. Petitions to revoke the exemption under 49 U.S.C. 10502(d) may be filed at any time. The filing of a petition to revoke will not automatically stay the transaction.

An original and 10 copies of all pleadings, referring to STB Finance Docket No. 34661, must be filed with the Surface Transportation Board, 1925 K Street, NW., Washington, DC 20423-0001. Also, a copy of each pleading must be served on Rose-Michele Weinryb, 1300 19th Street, NW., 5th Floor, Washington, DC 20036.

Board decisions and notices are available on our Web site at http://www.stb.dot.gov.

Decided: February 22, 2005.
By the Board, David M. Konschnik, Director, Office of Proceedings.
Vernon A. Williams,
Secretary.

[FR Doc. 05-4100 Filed 3-2-05; 8:45 am]

BILLING CODE 4915-01-P